GENERAL SERVICES ADMINISTRATION

[Notice-CRE-2021-01; Docket No. 2021-0002; Sequence No. 4]

Office of Human Resources Management; SES Performance Review Board

AGENCY: Office of Human Resources Management (OHRM), General Services Administration (GSA).

ACTION: Notice.

SUMMARY: Notice is hereby given of the appointment of new members to the GSA Senior Executive Service Performance Review Board. The Performance Review Board assures consistency, stability, and objectivity in the performance appraisal process.

DATES: Applicable: March 26, 2021.

FOR FURTHER INFORMATION CONTACT: Ms. Shonna James, Director, Executive Resources HR Services Center, Office of Human Resources Management, General Services Administration, 1800 F Street NW, Washington, DC 20405, (202)809-2745.

SUPPLEMENTARY INFORMATION: Section 4314(c)(1) through (5) of title 5 U.S.C. requires each agency to establish, in accordance with regulation prescribed by the Office of Personnel Management, one or more SES performance review board(s). The board is responsible for making recommendations to the appointing and awarding authority on the performance appraisal ratings and performance awards for employees in the Senior Executive Service.

The following have been designated as members of the Performance Review Board of GSA:

• Katy Kale, Deputy Administrator—PRB Chair.

• Christopher Bennethum, Assistant Commissioner for Assisted Acquisition Services, Federal Acquisition Service.

• Lesley Briante, Associate CIO for Enterprise Planning & Governance, Office of GSA IT.

• Krystal Brumfield, Associate Administrator for Governmentwide Policy, Office of Governmentwide Policy.

• Traci DiMartini, Chief Human Capital Officer, Office of Human Resources Management.

• Tiffany Hixson, Regional Commissioner, Federal Acquisition Service, Northwest/Arctic Region.

• Flavio Peres, Assistant Commissioner for Real Property Utilization and Disposal, Public Buildings Service.

• Joanna Rosato, Regional Commissioner, Public Buildings Service, Mid-Atlantic Region.

• Kevin Rothmier, Regional Commissioner, Public Buildings Service, The Heartland Region.

• Camille Sabbakhan, Associate General Counsel for Real Property, Office of General Counsel.

• Houston Taylor, Regional Commissioner, Federal Acquisition Service, National Capital Region.

Katy Kale,
Acting Administrator, General Services Administration.

[FR Doc. 2021-06317 Filed 3-25-21; 8:45 am]

BILLING CODE 6820-FM-P